DEPARTMENT OF STATE

[Public Notice: 11651]

Determination Pursuant to the Foreign Missions Act

Pursuant to the authority vested in the Secretary of State under the Foreign Missions Act, 22 U.S.C. 4301 et seq. (“the Act”), and delegated pursuant to Department of State Delegation of Authority No. 214 of September 20, 1994, I hereby determine it is reasonably necessary to achieve one or more of the purposes set forth in section 204(b) of the Act (22 U.S.C. 4304(b)) to impose limitations on travel on the members of the Belarusian Mission to the United States and their immediate family members and to comply with any other requirements as may be established by the Director or Deputy Director of the Office of Foreign Missions with respect to limitations on travel within the United States.

Clifton Seagroves,
Acting Director, Office of Foreign Missions, Department of State.

[FR Doc. 2022-06763 Filed 3-30-22; 8:45 am]

BILLING CODE 4711-07-P